FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 013448N.

Name: Accel Transport Co., Inc.

Address: 2132-A East Dominguez Street, Long Beach, CA 90810

Date Revoked: March 21, 2006.

Reason: Failed to maintain a valid bond.

License Number: 017713F.

Name: Bondex Air & Sea Logistic, Inc.

Address: 731 S. Garfield Ave., Ste. #B, Alhambra, CA 91801

Date Revoked: March 14, 2006.

Reason: Surrendered license voluntarily.

License Number: 018480N.

Name: California Export Line, Inc.

Address: 92 Corporate Park, C-242, Irvine, CA 92606

Date Revoked: March 8, 2006.

Reason: Failed to maintain a valid bond.

License Number: 013993N.

Name: Cargomar USA, Inc.

Address: 121 West Tazewell Street, Norfolk, VA 23510

Date Revoked: March 30, 2006.

Reason: Failed to maintain a valid bond.

License Number: 018863N.

Name: Centrum Overseas Transport, Inc.

Address: 7916 Kern Lane, Fort Worth, TX 76137

Date Revoked: March 31, 2006.

Reason: Failed to maintain a valid bond.

License Number: 018334F.

Name: Continental Logistic Service Inc.

Address: 325 W. 131st Street, Los Angeles, CA 90061.

Date Revoked: March 31, 2006.

Reason: Failed to maintain a valid bond.

License Number: 004309F.

Name: East West North South Forwarding, Inc.

Address: 3511 NW 113th Court, Miami, FL 33178.

Date Revoked: March 29, 2006.

Reason: Failed to maintain a valid bond.

License Number: 019592NF.

Name: George Mario Luna dba Four Points International.

Address: 16 Nantucket Court, Howell, NJ 07731.

Date Revoked: March 12, 2006.

Reason: Failed to maintain valid bonds.

License Number: 019464N.

Name: La Costa Logistics Services, Inc.

Address: 2842 Corte Papaya, Carlsbad, CA 92009.

Date Revoked: March 15, 2006.

Reason: Failed to maintain a valid bond.

License Number: 018412NF.

Name: MBC Brokers Inc.

Address: 2905A North Sepulveda Blvd., #303, Manhattan Beach, CA 90266-2729.

Date Revoked: March 21, 2006.

Reason: Surrendered license voluntarily.

License Number: 003074F.

Name: Robert A. Carranza

Address: c/o United Customhouse Brokers, Inc., 5777 W. Century Blvd. Ste. 590, Los Angeles, CA 90045

Date Revoked: March 30, 2006.

Reason: Failed to maintain a valid bond.

License Number: 019271NF.

Name: Xima Freight Services, Inc.

Address: 8217 NW 66th Street, Miami, FL 33166

Date Revoked: March 31, 2006.

Reason: Failed to maintain valid bonds.

Peter J. King,
Deputy Director, Bureau of Certification and Licensing.

[FR Doc. E6-5425 Filed 4-11-06; 8:45 am]

BILLING CODE 6730-01-P